DEPARTMENT OF HOMELAND SECURITY

8 CFR Parts 1 and 292

[DHS Docket No. USCIS-2009-0077]

RIN 1601-AA58

Professional Conduct for Practitioners: Rules, Procedures, Representation, and Appearances; Reopening the Public Comment Period

AGENCY: Office of the Secretary, DHS.

ACTION: Interim rule; reopening and extending the public comment period.

SUMMARY: The Department of Homeland Security (DHS) announces the reopening and extension of the public comment period for the interim rule entitled “Professional Conduct for Practitioners: Rules, Procedures, Representations, and Appearances.” The interim rule was published on February 2, 2010, comments were accepted until March 4, 2010, and the rule was effective on March 4, 2010.

To provide the public with optimum opportunity to comment on the interim rule, DHS will reopen the comment period for an additional 30 days. DHS will consider comments received during the entire public comment period in its development of the final rule.

DATES: Written comments must be submitted on or before March 2, 2011.

ADDRESSES: You may submit comments, identified by DHS Docket No. USCIS-2009-0077, by one of the following methods:

• Federal eRulemaking Portal: http://www.regulations.gov. Follow the instructions for submitting comments.

• E-mail: You may submit comments directly to USCIS by e-mail at rfs.regs@dhs.gov. Include DHS Docket No. USCIS-2009-0077 in the subject line of the message.

• Mail: Sunday Aigbe, Chief, Regulatory Products Division, U.S. Citizenship and Immigration Services, Department of Homeland Security, 20 Massachusetts Avenue, NW., Washington, DC 20529-2020. To ensure proper handling, please reference DHS Docket No. USCIS-2009-0077 on your correspondence. This mailing address may also be used for paper, disk, or CD-ROM submissions.

• Hand Delivery/Courier: Sunday Aigbe, Chief, Regulatory Products Division, U.S. Citizenship and Immigration Services, Department of Homeland Security, 20 Massachusetts Avenue, NW., Washington, DC 20529-2020. Contact Telephone Number (202) 272-8377.

FOR FURTHER INFORMATION CONTACT: Rachel A. McCarthy, Disciplinary Counsel, Office of the Chief Counsel, U.S. Citizenship and Immigration Services, Department of Homeland Security, 70 Kimball Avenue, Room 103, S. Burlington, VT 05403, telephone (802) 660-5043 (not a toll-free call), or e-mail Rachel.McCarthy@dhs.gov.

SUPPLEMENTARY INFORMATION:

Public Participation

Interested persons are invited to participate in this rulemaking by submitting written data, views, or arguments on all aspects of this rule. DHS also invites comments that relate to the economic or federalism effects that might result from this rule. Comments that will provide the most assistance to DHS will reference a specific portion of the rule, explain the reason for any recommended change, and include data, information, or authority that support such recommended change.

Instructions: All submissions received must include the agency name and DHS Docket No. USCIS-2009-0077. All comments received will be posted without change to http://www.regulations.gov, including any personal information provided.

Docket: For access to the docket or to read background documents or comments received go to http://www.regulations.gov. Submitted comments may also be inspected at the Regulatory Products Division, U.S. Citizenship and Immigration Services, Department of Homeland Security, 20 Massachusetts Avenue, NW., Washington, DC 20529-2020.

Background

On February 2, 2010, the Department of Homeland Security (DHS) published an interim rule with request for comments in the Federal Register at 75 FR 5225. The interim rule amended DHS regulations to:

• Conform the grounds of discipline and procedures regulations with those promulgated by the Department of Justice;

• Clarify who is authorized to represent applicants and petitioners in cases before DHS;

• Remove duplicative rules, procedures, and authority;

• Improve the clarity and uniformity of existing regulations; and to

• Make technical and procedural changes; and conform terminology.

DHS has received several requests to reopen and extend the public comment period on this interim rule. The interim rule was effective on March 4, 2010, and the changes made in the rule are and will remain in force and effect notwithstanding this notice.

Nevertheless, DHS has decided to provide an additional opportunity for the public to comment and will reopen the public comment period for an additional 30 days. DHS also is extending the original comment period until March 2, 2011 and will consider comments received throughout the entire public comment period in development of its final rule. Please visit http://www.regulations.gov to view the rule, comments received, and all supporting documents.

Janet Napolitano,
Secretary.

[FR Doc. 2011-2040 Filed 1-28-11; 8:45 am]

BILLING CODE 9111-97-P